DEPARTMENT OF THE INTERIOR

National Park Service

[NPS-WASO-NAGPRA-NPS0025528; PPWOCRADN0-PCU00RP14.R50000]

Notice of Inventory Completion: Heard Museum, Phoenix, AZ

AGENCY: National Park Service, Interior.

ACTION: Notice.

SUMMARY: The Heard Museum has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Heard Museum. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Heard Museum at the address in this notice by July 18, 2018.

ADDRESSES: David Roche, Director/CEO, Heard Museum, 2301 North Central Avenue, Phoenix, AZ 85004, telephone (602) 252-8840, email director@heard.org.

SUPPLEMENTARY INFORMATION: Notice is here given in accordance with the Native American Graves Protection and Repatriation Act (NAGPRA), 25 U.S.C. 3003, of the completion of an inventory of human remains under the control of the Heard Museum, Phoenix, AZ. The human remains were removed from Navajo County, AZ.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Heard Museum professional staff in consultation with representatives of the Hopi Tribe of Arizona and Zuni Tribe of the Zuni Reservation, New Mexico.

History and Description of the Remains

Sometime prior to 1991, human remains representing, at minimum, one individual were removed from Navajo County, AZ. In 1991, the human remains were found in museum storage and assigned catalog number NA-SW-PR-T-5. The individual was an adult aged 18-20 years, of unknown gender. No known individuals were identified. No associated funerary objects were present. A note with the remains identified it as “Pueblo.”

Determinations Made by the Heard Museum

Officials of the Heard Museum have determined that:

• Pursuant to 25 U.S.C. 3001(9), the human remains described in this notice represent the physical remains of one individuals of Native American ancestry.

• Pursuant to 25 U.S.C. 3001(2), there is a relationship of shared group identity that can be reasonably traced between the Native American human remains and Hopi Tribe of Arizona and Zuni Tribe of the Zuni Reservation, New Mexico.

Additional Requestors and Disposition

Lineal descendants or representatives of any Indian Tribe or Native Hawaiian organization not identified in this notice that wish to request transfer of control of these human remains should submit a written request with information in support of the request to David Roche, Director/CEO, Heard Museum, 2301 North Central Avenue, Phoenix, AZ 85004, telephone (602) 252-8840, email director@heard.org, by July 18, 2018. After that date, if no additional requestors have come forward, transfer of control of the human remains to the Hopi Tribe of Arizona; Pueblo of Acoma, New Mexico; Pueblo of Laguna, New Mexico; and Zuni Tribe of the Zuni Reservation, New Mexico may proceed.

The Heard Museum is responsible for notifying the Hopi Tribe of Arizona and Zuni Tribe of the Zuni Reservation, New Mexico that this notice has been published.

Dated: May 2, 2018.
Melanie O'Brien,
Manager, National NAGPRA Program.

[FR Doc. 2018-13034 Filed 6-15-18; 8:45 am]

BILLING CODE 4312-52-P